DEPARTMENT OF HEALTH AND HUMAN SERVICES

Centers for Disease Control and Prevention

[60Day-17-17SG; Docket No. CDC-2017-0016]

Proposed Data Collection Submitted for Public Comment and Recommendations

AGENCY: Centers for Disease Control and Prevention (CDC), Department of Health and Human Services (HHS).

ACTION: Notice with comment period.

SUMMARY: The Centers for Disease Control and Prevention (CDC), as part of its continuing efforts to reduce public burden and maximize the utility of government information, invites the general public and other Federal agencies to take this opportunity to comment on proposed and/or continuing information collections, as required by the Paperwork Reduction Act of 1995. This notice invites comment on the proposed information collection project titled “Anthropometric Information on Law Enforcement Officers.” The purpose of this three-year data collection project is to assemble a database of body dimensions of 1,000 law enforcement officers to improve the design of police cruiser cabins and personal protective equipment (PPE).

DATES: Written comments must be received on or before May 15, 2017.

ADDRESSES: You may submit comments, identified by Docket No. CDC-2017-0016 by any of the following methods:

• Federal eRulemaking Portal: Regulations.gov. Follow the instructions for submitting comments.

• Mail: Leroy A. Richardson, Information Collection Review Office, Centers for Disease Control and Prevention, 1600 Clifton Road NE., MS-D74, Atlanta, Georgia 30329.

Instructions: All submissions received must include the agency name and Docket Number. All relevant comments received will be posted without change to Regulations.gov, including any personal information provided. For access to the docket to read background documents or comments received, go to Regulations.gov.

Please note: All public comment should be submitted through the Federal eRulemaking portal (Regulations.gov) or by U.S. mail to the address listed above.

FOR FURTHER INFORMATION CONTACT: To request more information on the proposed project or to obtain a copy of the information collection plan and instruments, contact the Information Collection Review Office, Centers for Disease Control and Prevention, 1600 Clifton Road NE., MS-D74, Atlanta, Georgia 30329; phone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to OMB for approval. To comply with this requirement, we are publishing this notice of a proposed data collection as described below.

Comments are invited on: (a) Whether the proposed collection of information is necessary for the proper performance of the functions of the agency, including whether the information shall have practical utility; (b) the accuracy of the agency's estimate of the burden of the proposed collection of information; (c) ways to enhance the quality, utility, and clarity of the information to be collected; (d) ways to minimize the burden of the collection of information on respondents, including through the use of automated collection techniques or other forms of information technology; and (e) estimates of capital or start-up costs and costs of operation, maintenance, and purchase of services to provide information. Burden means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information.

Proposed Project

Anthropometric Information on Law Enforcement Officers—New—National Institute for Occupational Safety and Health (NIOSH), Centers for Disease Control and Prevention (CDC).

Background and Brief Description

The mission of the National Institute for Occupational Safety and Health (NIOSH) is to promote safety and health at work for all people through research and prevention. The National Bureau of Standards (NBS) released its manually measured anthropometric data of law enforcement officer (LEOs) in 1975. The data have largely become outdated due to demographic changes (e.g., gender and race/ethnicity) that have occurred in the past 41 years. NIOSH has initiated a national study on LEO anthropometry, using both traditional and three-dimensional (3D) scanning technologies to advance the safety and health of approximately 817,000 U.S. LEOs.

Traditional anthropometry will ensure easy comparison of data between this and previous studies, whereas 3D scan information (body contours and spatial relations between body parts) will be used for advanced anthropometric analysis, computer simulation, and modeling. Study results will be used to enhance design and standards for LEO vehicle configuration and personal protective equipment (PPE), such as cabins, seats, body restraints, vehicle access, and body armor. Law enforcement officer anthropometry has an important role in the design of ergonomically efficient LEO cruisers and personal protective systems. The improved vehicle configurations will help enhance safe operation (due to improved driver visibility and control operation) and increase post-crash survivability (due to enhanced seats and restraint system configurations). Body armor, helmet, gloves, and boots are important elements of an integrated LEO personal protective system, especially for handling violent acts. Poor equipment fit may compromise protective capabilities of PPE and may result in LEOs not wearing the PPE because of discomfort. By establishing an anthropometric database for LEOs, the designers and manufacturers of these types of equipment will be able to produce more effective products and reduce the problems associated with sizing and stocking these items.

Data collection will occur in four U.S. geographic areas using traditional anthropometric techniques for whole body measurements, 3D scanning techniques for head, foot, and whole body measurements, and a two-dimensional(2D) scanning techniques for hand measurements. An anthropometer, a beam caliper (rearranged pieces of the anthropometer), tape measures, and an electronic scale will be used to collect the traditional anthropometry data in the study. A hand scanner, head scanner, foot scanner, and whole body scanner, housed in a mobile trailer, are used for 2D and 3D body shape measurements.

The study population will be current law enforcement officers employed by police departments, sheriff's departments, or similar governmental organizations throughout the continental United States. One thousand LEO volunteers will participate in the study over three years. Informed consent and the data collection are expected to take no longer than 65 minutes (total) to complete. The total estimated annualized burden hours are 385.

There are no costs to the respondents other than their time.

Estimated Annualized Burden Hours

Type of respondents | Form name | Number of respondents | Number of responses per respondent | Average burden per response (in hrs) | Total burden (in hrs)
Law Enforcement Officers | Pre-Enrollment Confirmation Email | 333 | 1 | 1/60 | 6
Law Enforcement Officers | Biographical Information | 333 | 1 | 3/60 | 17
Law Enforcement Officers | Consent form | 333 | 1 | 5/60 | 28
Law Enforcement Officers | Traditional anthropometric measurements | 333 | 1 | 30/60 | 167
Law Enforcement Officers | 2D and 3D scans | 333 | 1 | 30/60 | 167
Total |  |  |  |  | 385

Leroy A. Richardson,
Chief, Information Collection Review Office, Office of Scientific Integrity, Office of the Associate Director for Science, Office of the Director, Centers for Disease Control and Prevention.

[FR Doc. 2017-05265 Filed 3-15-17; 8:45 am]

BILLING CODE 4163-18-P